DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of the individuals and entities whose property and interests in property have been unblocked pursuant to Executive Order 12978 of October 21, 1995, “Blocking Assets and Prohibiting Transactions With Significant Narcotics Traffickers”.

DATES: The unblocking and removal from the list of Specially Designated Nationals and Blocked Persons (“SDN List”) of the individuals and entities identified in this notice whose property and interests in property were blocked pursuant to Executive Order 12978 of October 21, 1995, is effective on May 24, 2012.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On May 24, 2012, the Director of OFAC removed from the SDN List the individuals and entities listed below, whose property and interests in property were blocked pursuant to the Order:

Individuals

1. AGUILAR ROJAS, Luz Elena, c/o PARQUE INDUSTRIAL PROGRESO S.A., Yumbo, Colombia; c/o GEOPLASTICOS S.A., Cali, Colombia; DOB 14 Mar 1966; POB Cali, Valle, Colombia; Cedula No. 31940893 (Colombia); Passport 31940893 (Colombia) (individual) [SDNT]

2. LARES RANGEL, Jose Luis, c/o GRUPO C.L.P. CONSTRUCTORA S.A. DE C.V.; Calle Lopez Cotilla 2032, Piso 10, Colonia Americana, Guadalajara, Jalisco, Mexico; Ignacio Ramos Praslow 640, Guadalajara, Jalisco, Mexico; DOB 18 Apr 1942; POB Ciudad Guzman, Jalisco, Mexico; citizen Mexico; nationality Mexico; C.U.R.P. LARL420418HJCRNS01 (Mexico) (individual) [SDNT]

Entities

1. CORPORACION CLUB DEPORTIVO TULUA (a.k.a. CORTULUA), Carrera 26 No. 32-70 B. Salesiano, Tulua, Valle, Colombia; NIT # 800097185-2 (Colombia) [SDNT]

2. GRUPO C.L.P. CONSTRUCTORA S.A. DE C.V., Calle San Uriel 690, Interior 10, Piso 4, Colonia Chapalita, Guadalajara, Jalisco, Mexico [SDNT]

Dated: May 24, 2012.
Barbara C. Hammerle,
Acting Director, Office of Foreign Assets Control.

[FR Doc. 2012-13709 Filed 6-5-12; 8:45 am]

BILLING CODE 4810-AL-P